DEPARTMENT OF ENERGY

Federal Energy Regulatory Commission

[Project No. 2684-010]

Flambeau Hydro, LLC; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 2684-010.

c. Date filed: April 26, 2017.

d. Applicant: Flambeau Hydro, LLC (Flambeau Hydro).

e. Name of Project: Arpin Dam Project.

f. Location: On the Chippewa River, near the Village of Radisson, Sawyer County, Wisconsin. There are no federal or tribal lands within the project boundary.

g. Filed Pursuant to: Federal Power Act 16 U.S.C. 791(a)-825(r).

h. Applicant Contact: Mr. Jason Kreuscher, Renewable World Energies, LLC, 100 State Street, P.O. Box 264, Neshkoro, WI 54960; (855) 994-9376, ext. 102.

i. FERC Contact: Amy Chang, 202-502-8250, or amy.chang@ferg.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2684-010.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Arpin Dam Project consists of: (1) An approximately 742.5-foot-long, 19-foot-high stone masonry dam (west dam section) that includes two timber stoplog spillway bays and a 318.9-foot-long overflow section; (2) an approximately 452.2-foot-long, 18-foot-high masonry dam (middle dam section) that includes two steel vertical lift gates and a 237.9-foot-long overflow section; (3) an approximately 319.8-foot-long, 16-foot-high masonry dam (east dam section) that includes two tainter gates and a 108-foot-long overflow section; (4) an approximately 294-acre impoundment at a normal full pond water surface elevation of 1,227.32 feet North American Vertical Datum of 1988; (5) a 37-foot-long, 11.5-foot-wide, 14-foot-high concrete, canal headworks structure on the eastern side of the impoundment; (6) an approximately 3,200-foot-long, 56-foot-wide, 6-foot-deep power canal; (7) a 13.5-foot-long, 48-foot-wide, 14.4-foot-high concrete intake structure that includes two 9-foot-wide, 11-foot-high steel stop gates and a 44-foot-wide, 14.4-foot-high trashrack with 1.5- to 1.75-inch clear bar spacing; (8) three 79-foot-long, 8-foot-diameter steel penstocks; (9) a 52-foot-long, 24-foot-wide, 25-foot-high cement block powerhouse containing two 600-kilowatt (kW), and one 250-kW vertical Francis turbine-generator units, for a total capacity of 1,450 kW; (10) a 15-foot-long, 2.4-kilovolt (kV) underground generator lead line that connects the turbine-generator units to a substation containing three step-up transformers; (11) a 3,645-foot-long, 22.9-kV above-ground transmission line; (12) an approximately 100-foot-long, 77-foot-wide tailrace; (13) recreation facilities; and (14) appurtenant facilities.

Flambeau Hydro manually operates the project in a run-of-river mode, with an average annual generation of 7,336 megawatt-hours. Flambeau Hydro is not proposing any changes in project operation. Flambeau Hydro proposes to continue releasing a year-round minimum flow of 40 cubic feet per second to the bypassed reach to protect aquatic resources; limiting fluctuations in the reservoir to one foot below the maximum, except between April 1 and June 1, when fluctuations would be limited to 0.5 foot; and operating and maintaining existing recreation facilities. Flambeau Hydro also proposes to develop an Historic Properties Management Plan to protect historic resources.

m. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

n. Anyone may submit comments, a protest, or a motion to intervene in accordance with the requirements of the Commission's Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, TERMS AND CONDITIONS, or PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. Procedural Schedule:

The application will be processed according to the following revised schedule. Revisions to the schedule may be made as appropriate.

Milestone | Target date
Filing of recommendations, preliminary terms and conditions, and preliminary fishway prescriptions | February 2018.
Commission issues Environmental Assessment | June 2018.
Comments on Environmental Assessment | July 2018.

Final amendments to the application must be filed with the Commission no later than 30 days from the issuance date of this notice.

p. A license applicant must file no later than 60 days following the date of issuance of this notice: (1) A copy of the water quality certification; (2) a copy of the request for certification, including proof of the date on which the certifying agency received the request; or (3) evidence of waiver of water quality certification.

Dated: December 13, 2017.
Kimberly D. Bose,
Secretary.

[FR Doc. 2017-27332 Filed 12-19-17; 8:45 am]

BILLING CODE 6717-01-P